DEPARTMENT OF COMMERCE

National Oceanic and Atmospheric Administration

50 CFR Part 660

[I.D. 101003E]

Fisheries off the West Coast States and in the Western Pacific; Pacific Coast Groundfish Fishery; Intent to Prepare an Environmental Impact Statement for Fishing Conducted Under the Pacific Coast Groundfish Fishery Management Plan

AGENCY: National Marine Fisheries Service (NMFS), National Oceanic and Atmospheric Administration (NOAA), Commerce.

ACTION: Notice of intent to prepare an environmental impact statement (EIS); announcement of public scoping period; request for written comments.

SUMMARY: NMFS, in cooperation with the Pacific Fishery Management Council (Council), announces its intention to prepare an EIS in accordance with the National Environmental Policy Act (NEPA) to assess the impacts of the 2005-2006 Pacific Coast groundfish fishery specifications and management measures on the human environment.

DATES: A public scoping meeting for the 2005-2006 Pacific Coast groundfish fishery specifications and management measures EIS is scheduled for Sunday, November 2, 2003, from 1 p.m. to 3 p.m. in conjunction with the Council's November 3-7, 2003, meeting (see SUPPLEMENTARY INFORMATION). Written comments will be accepted at the Council office through November 14, 2003. After this date, a scoping responsiveness summary document summarizing the public's issues and alternatives to be evaluated in the EIS, will be drafted and made available on the Council's website (www.pcouncil.org) or by request from the address below.

ADDRESSES: Written comments on suggested alternatives and potential impacts should be sent to Dr. Donald McIsaac, Executive Director, Pacific Fishery Management Council, 7700 NE Ambassador Place, Suite 200, Portland, OR 97220-1384. Comments may also be sent via facsimile (fax) to 503-820-2299 or via e-mail (pfmc.comments@noaa.gov and write “2005-2006 groundfish specifications EIS” in subject line).

FOR FURTHER INFORMATION CONTACT: Mr. John DeVore, Groundfish Fishery Management Coordinator; phone: 503-820-2280 and e-mail: John.DeVore@noaa.gov or Matthew Harrington, NMFS Northwest Region NEPA Coordinator; phone: 206-526-4742 and email: Matthew.Harrington@noaa.gov.

SUPPLEMENTARY INFORMATION:

Background and Need For Agency Action

There are more than 80 species managed under the Pacific Coast Groundfish Fishery Management Plan (Groundfish FMP), nine of which have been declared overfished. The groundfish stocks support an array of commercial, recreational, and Indian tribal fishing interests in state and Federal waters off the coasts of Washington, Oregon, and California. In addition, groundfish are also harvested incidentally in nongroundfish fisheries, most notably, the trawl fisheries for pink shrimp, spot/ridgeback prawns, California halibut, and sea cucumber.

The proposed action is needed to establish commercial and recreational harvests levels in 2005-2006 that will ensure groundfish stocks are maintained at, or restored to, sizes and structures that will produce the highest net benefit to the nation, while balancing environmental and social values.

The Proposed Action

The proposed action is to implement management measures consistent with the requirements of the Magnuson-Stevens Fishery Conservation and Management Act (Magnuson-Stevens Act) that constrain total fishing mortality during 2005-2006 within limits that maintain fish stocks at, or rebuild them to, a level capable of producing maximum sustained yield , or to a stock size less than this if such stock size results in long-term net benefit to the nation.

These fishing mortality limits are harvest specifications that include acceptable biological catches (ABCs) and optimum yields (OYs) for groundfish species or species groups in need of particular protection; OYs may be represented by harvest guidelines or quotas for species that need individual management. Separate sets of ABCs and OYs will be specified for 2005 and 2006 as part of the multi-year management cycle for groundfish. The allocation of commercial OYs between the open access and limited entry segments of the fishery is also part of the proposed action.

Beginning with the 2005-2006 fishing years, the FMP, as amended by Amendment 17, requires that the groundfish specifications be evaluated and revised as necessary every two years, with separate ABCs and OYs established for each of the two years in the biennial period. Management measures designed to achieve the OYs will be established for each year and, as in the past, may vary from period to period within any one year. These specifications and management measures will be published in the Federal Register and made effective by January 1 of the first fishing year in the biennium. The Magnuson-Stevens Act and the groundfish FMP also require that NMFS implement actions to prevent overfishing and to rebuild overfished stocks. These specifications include fish caught in state ocean waters (zero to three nautical miles [nm] offshore) as well as fish caught in the U.S. exclusive economic zone (3 to 200 nm offshore).

Alternatives

NEPA requires that agencies evaluate reasonable alternatives to the proposed action in an EIS. The purpose and need for agency action determines the range of reasonable alternatives. A preliminary set of alternatives will be developed during the November 3-7, 2003, Council meeting. Alternatives will be structured around a range of ABCs/OYs for assessed groundfish species. This range of ABCs/OYs is based on stock assessments, including new assessments for cabezon and lingcod completed since 2004 harvest specifications were finalized at the Council's September 2003 meeting. (Seven additional assessments, and rebuilding analyses for overfished species based on these assessments, were completed in 2003 and used to establish 2004 harvest specifications. Since the most recent approved assessment is used to identify ABCs and OYs for an assessed stock, these recent assessments will also contribute to the 2005-2006 specifications process).

For some species, ABC/OY ranges that would be used to develop alternatives may be based on consultations by the Council with state and Federal agencies, Indian tribes, and the affected public on the allocation of harvest opportunity between sectors. Allocation decisions can affect OYs because different sectors may catch fish of different ages, allowing different sustainable harvest levels.

For each set of ABCs/OYs used in a given alternative, a set of management measures will be identified that will constrain total harvest mortality (across all fisheries intercepting groundfish). Restrictive management measures intended to rebuild overfished species have been adopted and implemented over the past several years for most commercial and recreational fishing sectors. Management measures intended to control the rate at which different groundfish species or species groups are taken in the fisheries include trip limits, bag limits, size limits, time/area closures, and gear restrictions. Large area closures, called Groundfish Conservation Areas (GCAs), intended to reduce bycatch of overfished species, were first implemented in late 2002. These closed areas will continue to be a key feature of alternatives considered in the EIS to manage groundfish fisheries in 2005-2006. A second important type of measure used to manage groundfish is the cumulative landing limit. These restrict the total weight of fish by species or species group that any one vessel may land during the limit period, which is normally two months. Different cumulative landing limits are established for areas north and south of 40°10′ N. lat. (near Cape Mendocino, CA) and for limited entry trawl, limited entry fixed gear, and open access fishery participants.

Preliminary Identification of Environmental Issues

A principal objective of the scoping and public input process is to identify potentially significant impacts to the human environment that should be analyzed in depth in the EIS. The EIS evaluates a range of feasible alternatives (described above) to determine their likely impacts on the human environment and identify significant impacts. Council and NMFS staff conducted initial screening to identify the potentially significant impacts of the range of alternatives that will be developed. Issues considered in the EIS for 2004 harvest specifications, currently in preparation, are likely to be relevant to the EIS for 2005-2006 harvest specifications. (These include the effects of fishing on essential fish habitat, protected species listed under the Endangered Species Act and Marine Mammal Protection Act, the sustainability of overfished and non-overfished groundfish stocks, and socioeconomic impacts to individuals and communities involved in the use of groundfish resources). The transition from annually specifying harvest levels and management measures to this 2-year management cycle may also raise issues that will be considered in the EIS.

Public Scoping Process

A public scoping meeting is scheduled for Sunday, November 2, 2003 from 1 p.m. to 3 p.m. This scoping session will coincide with the Council meeting and will occur at the same location, the Hilton San Diego/Del Mar, 15575 Jimmy Durante Blvd., Del Mar, California 92014-1901 (858-792-5200). The primary purpose of the scoping meeting is to focus the analysis on the real issues and concerns of the public (see 40 CFR 1500.5(d) and 40 CFR 1501.7). Public comment also may be made during the November Council meeting (November 3-7), under the agendum when the Council will consider the proposed action. The agenda for this meeting will be available from the Council website or by request from Council offices in advance of the meeting (see ADDRESSES). The agenda will also identify the room in which the Sunday scoping meeting will occur. Written comments on the scope of issues and alternatives may be submitted as described under ADDRESSES.

NMFS invites comments and suggestions on the scope of the analysis to be included in the draft environmental impact statement (DEIS). The scope includes the range of alternatives to be considered and potentially significant impacts to the human environment that should be evaluated in the DEIS. In addition, NMFS is notifying the public that, in conjunction with the Council, it is beginning a full environmental analysis and decision-making process for this proposal, so interested or affected people may know how they can participate in the environmental analysis and contribute to the final decision.

A DEIS will be prepared for comment later on in the process. The comment period on the DEIS will be 45 days from the date the Environmental Protection Agency's notice of availability appears in the Federal Register. It is very important that those interested in this proposed action participate at that time. To be the most helpful, comments on the DEIS should be as specific as possible and may address the adequacy of the statement or merits of the alternatives discussed. It is also helpful if comments refer to specific pages or chapters of the DEIS. Comments may also address the adequacy of the DEIS or the merits of the alternatives formulated and discussed in the DEIS. (Reviewers may wish to refer to the Council on Environmental Quality Regulations for implementing the procedural provisions of NEPA CFR 1503.3 in addressing these points). Comments received, including the names and addresses of those who comment, will be considered part of the public record on this proposal and will be available for public inspection.

Special Accommodations

These meetings are accessible to people with physical disabilities. Requests for sign language interpretation or other auxiliary aids should be directed to Carolyn Porter 503-820-2280 (voice) or 503-820-2299 (fax), at least 5 days prior to the scheduled meeting date.

Authority: 16 U.S.C. 1801 et seq.

Dated: October 8, 2003.
Bruce C. Morehead,
Acting Director, Office of Sustainable Fisheries, National Marine Fisheries Service.

[FR Doc. 03-26075 Filed 10-14-03; 8:45 am]

BILLING CODE 3510-22-S